DEPARTMENT OF THE INTERIOR

National Park Service

National Register of Historic Places; Notification of Pending Nominations and Related Actions

Nominations for the following properties being considered for listing or related actions in the National Register were received by the National Park Service before July 12, 2008. Pursuant to section 60.13 of 36 CFR part 60 written comments concerning the significance of these properties under the National Register criteria for evaluation may be forwarded by United States Postal Service to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by August 12, 2008.

J. Paul Loether,
Chief, National Register of Historic Places/National Historic Landmarks Program.

MARYLAND

Carroll County

Roop's Mill, 1001, 1019 Taneytown Pike, Westminster, 08000796

MASSACHUSETTS

Bristol County

Wamsutta Mills, Acushnet Ave., Logan, Wamsutta and N. Front St., New Bedford, 08000794

Suffolk County

Joshua Bates School, 731 Harrison Ave., Boston, 08000793

Ohabei Shalom Cemetery, 147 Wordsworth St., Boston, 08000795

MISSOURI

Newton County

Lentz-Carter Merchandise Store, 744 Ozark St., Stella, 08000799

NEW MEXICO

Dona Ana County

Green Bridge, (Historic Highway Bridges of New Mexico MPS) 4100 Dripping Springs Rd., Las Cruces, 08000791

RHODE ISLAND

Providence County

General Ice Cream Corporation Building, 485 Plainfield St., Providence, 08000788

SOUTH DAKOTA

Aurora County

Patten Consolidated School, (Schools in South Dakota MPS) 37196 241st St., White Lake, 08000797

Underwood United Methodist Church, 24183 373rd Ave., White Lake, 08000798

VERMONT

Windsor County

Bridge 15, (Metal Truss, Masonry, and Concrete Bridges in Vermont MPS) F.A.S. Hwy 177, Sharon, 08000792

WISCONSIN

Oconto County

Mountain Fire Lookout Tower, Forest Service Rd. 2335 (Tower Rd.) Lakewood Ranger District, Nicolet National Forest, Riverview, 08000790

WISCONSIN

Washington County

West Bend Chicago and North Western Depot, Veterans Ave. at Willow La., West Bend, 08000789

[FR Doc. E8-17188 Filed 7-25-08; 8:45 am]

BILLING CODE 4310-70-P